CORPORATION FOR NATIONAL AND COMMUNITY SERVICE

Notice of Availability of Funds for Outreach to Individuals With a Disability To Increase Their Participation in National Service

AGENCY: Corporation for National and Community Service.

ACTION: Notice of availability of funds.

SUMMARY: The Corporation for National and Community Service (the Corporation) announces the availability of approximately five million dollars to support outreach activities to increase the participation of persons with disabilities in national service. We will use these funds to make grants to public or private nonprofit organizations to pay the Federal share of: (1) providing information about national service programs to individuals with disabilities who desire to perform service, (2) assisting in the recruitment of such individuals in national service, and (3) assisting national service programs in adapting their programs to encourage greater participation by individuals with disabilities. We expect to award approximately 20 grants in amounts ranging from $100,000 to $1,000,000 for a period of up to two years.

We published a notice of funding availability in the Federal Register on Monday, June 26, 2000 (65 FR 39370) specifically to support service days or events that include persons with disabilities. This current notice of funding availability also allows for that activity but enables potential applicants to propose a much broader range of activities.

DATES: All proposals must arrive at the Corporation no later than 5:00 p.m., Eastern Daylight Time, on October 4, 2000.

ADDRESSES: Submit proposals to the Corporation at the following address: Corporation for National and Community Service, Attn: Nancy Talbot, 1201 New York Avenue NW., Washington, DC 20525. This notice may be requested in an alternative format.

FOR FURTHER INFORMATION CONTACT: For further information and an application, visit our website at http://www.nationalservice.org. If you wish to obtain a printed application or to speak with someone, contact Thea Kachoris at (202) 606-5000, ext. 562, or email her at tkachoris@cns.gov. The TDD number is (202) 565-2799.

SUPPLEMENTARY INFORMATION:

A. Background

The Corporation was established in 1993 to engage Americans of all ages and backgrounds in service to their communities. The Corporation's national service programs provide opportunities for participants to serve full-time and part-time, with or without stipend, as individuals or as part of a team. AmeriCorps*State, National, VISTA, and National Civilian Community Corps programs engage thousands of Americans on a full, or part-time basis, at over 1,000 locations to help communities meet their toughest challenges. Learn and Serve America integrates service into the academic life or experiences of over one million youth from kindergarten through higher education in all 50 states. The National Senior Service Corps utilizes the skills, talents and experience of over 500,000 older Americans to help make communities stronger, safer, healthier, and smarter.

AmeriCorps*State and AmeriCorps*National programs, that involve over 40,000 Americans each year in result-driven community service, are grant programs managed by: (1) State commissions on national and community service that select and oversee programs operated by local organizations; (2) national non-profit organizations that act as “parent organizations” for program operating sites across the country; (3) Indian tribes; or (4) U.S. Territories. The Corporation also supports AmeriCorps*VISTA (Volunteers in Service to America) and AmeriCorps*NCCC (National Civilian Community Corps) programs. More than 6,000 AmeriCorps*VISTA members develop grassroots programs, mobilize resources and build capacity for service across the nation. AmeriCorps*NCCC provides the opportunity for approximately 1,000 individuals between the ages of 18 and 24 to participate each year in ten-month residential programs located mainly on inactive military bases. Learn and Serve America grants provide service-learning opportunities for youth through grants to state education agencies, community-based organizations, and higher education institutions and organizations, and Indian Tribes and Territories. The National Senior Service Corps operates through grants to nearly 1,300 local organizations for the Retired and Senior Volunteer (RSVP), Foster Grandparent (FGP) and Senior Companion (SCP) programs to provide service to their communities. For additional information on the national service programs supported by the Corporation, go to http://www.nationalservice.org.

B. Eligible Applicants

Eligible applicants for this funding are (1) Corporation-approved state commissions on national and community service, (2) state education agencies, (3) nonprofit organizations with expertise in disability issues proposing activities in at least three states, (4) tribal or territorial governments, and (5) regional, state-wide, or local consortia consisting of public or private nonprofit organizations (including state commissions, state education agencies or a consortium of projects working together within a region, state or locality). Consortia must identify a lead agency that will serve as the legal applicant. Examples of state-wide, regional or local consortia include but are not limited to:

• Local service agencies, AmeriCorps programs, Learn and Serve America projects, and local disability associations that collaborate to develop an outreach and recruitment strategy;

• Senior Corps projects within a region, state, or locality that propose to fill volunteer vacancies with persons with disabilities;

• Collaborations between Corporation-approved state commissions;

• Community colleges, colleges, or universities within a region, state, or locality.

The Corporation encourages, and will give priority to, proposals that reflect collaborations that include organizations with a demonstrated expertise in disability issues (e.g., a group of AmeriCorps programs form a partnership with their local Center for Independent Living to conduct outreach to the disabled community).

An organization described in section 501(c)(4) of the Internal Revenue Code of 1986, 26 U.S.C. 501(c)(4), that engages in lobbying activities, is not eligible to be a grantee or subgrantee.

C. Statutory Authority

Section 129(d)(5)(C) of the National and Community Service Act authorizes the Corporation to make grants to pay for the Federal share of (1) providing information about national service activities to persons with disabilities and (2) enabling such persons to participate.

D. Purpose of Grants

The National and Community Service Act of 1990, as amended, encourages citizens, regardless of age, income, or disability, to engage in full-time or part-time national service. Section 129(d)(5)(C) of the Act sets aside funds to ensure that people with disabilities are made aware of national service opportunities and are able to serve. We are committed to increasing the participation of persons with disabilities in all areas of national service. Many national service programs need assistance in understanding how to focus their outreach and recruitment efforts to ensure increased participation by people with disabilities. We recently sponsored a national conference that brought together disability organizations and national service programs to better understand opportunities and avenues for collaboration. We wish to continue and expand the efforts begun at this conference by making grants available to support outreach to persons with disabilities to increase their participation in national service.

E. Matching Funds Requirement

The Federal share of the cost of carrying out activities under these grants may not exceed 75 percent. A grantee may comply with this requirement through cash or in-kind resources. Cash match may be in the form of State funds, local funds, or Federal funds (other than funds made available under national service laws.)

F. Scope of Activities To Be Supported by Outreach Grants

This is a nationwide effort to encourage individuals with a disability to participate in national service programs (programs that are assisted under national service laws or otherwise act in conjunction with programs assisted under the national service laws). Our goal is to increase the number of persons with disabilities who participate in service. We will use these funds to make grants to eligible applicants to pay the Federal share of: (1) Providing information about national service programs to individuals with disabilities who desire to perform service, (2) assisting in the recruitment of such individuals in national service, and (3) assisting national service programs in adapting their programs to encourage greater participation by individuals with disabilities.

The following are sample activities aimed at increasing the number of persons with disabilities in national service:

• Develop and conduct activities geared toward national service program directors to increase their awareness of disability issues and their ability to undertake successful outreach and recruitment of people with disabilities.

• Develop and conduct targeted mailings and outreach sessions to engage students with disabilities in service-learning, including Federal Work Study students, in service projects.

• Organize and conduct information sessions for disability organizations to learn more about national service or to add service to the community as part of their organizations' mission.

• Sponsor part-time recruitment coordinators with the specific goal of meeting recruitment goals established for individuals with disabilities to participate in service projects.

• Train teachers in methods to include persons with disabilities as service providers in school-based service projects.

• Develop and fund local radio and television public service announcements that include images of persons of all ages with disabilities in service to others.

• Conduct targeted advertising and recruitment, e.g., attending job fairs for persons with disabilities, outreach to schools for students with disabilities.

• Develop marketing materials that target persons with disabilities and are shared with the larger national service network.

The above are examples only. Proposals should reflect strategies applicable to local programs, or state-wide or regional efforts. State commissions and state education agencies may develop strategies that are state-wide or target particular localities in year one and expand to new localities in year two. National non-profit organizations must plan to provide outreach activities in at least three states across the country or within a particular region of the country. You may consider subgranting to local affiliates in collaboration with local national service programs or develop state-wide or regional activities.

Federal law (the Rehabilitation Act of 1973) requires recipients of federal financial assistance to fulfill a level of basic accessibility prior to receiving financial assistance. While the national service legislation provides separately for funds to pay for reasonable accommodations or auxiliary aids to assist specific categories of national service programs in placing individuals with a disability in national service positions, these outreach funds are not available for reasonable accommodations or auxiliary aids related to placement. However, outreach funds are not restricted to a particular category of national service program and may be used to make outreach events and materials accessible to individuals with a disability.

We are currently seeking Office of Management and Budget (OMB) approval for the narrative portion of the application requirements. You may use the description of these requirements (below) to plan your activities. We expect the OMB-approved application requirements to be available on our website no later than September 8, 2000.

G. Duration of Grant

The duration of each grant is up to two years, with the entire amount awarded at one time. Applications must include a proposed budget and proposed activities for the entire award period.

H. Application Requirements

All applicants must complete the Application for Federal Assistance (SF 424), Budget Information—Non-Construction Programs (SF 424A), and Assurances—Non-Construction Programs (SF 424B). Copies of these forms can be obtained at the Corporation's website: http://www.nationalservice.org. For a printed copy of any of these materials, please contact Thea Kachoris at (202) 606-5000, ext.562 or send an email to tkachoris@cns.gov. (Note: There must be one legal applicant for each proposal, including a consortium or joint proposal.) Applicants must submit one unbound, original proposal and two copies. We will not accept any proposals submitted by facsimile. All applicants are encouraged to submit voluntarily an additional four copies of the application to expedite the review process.

Attached to the SF 424, please include the following:

1. Outreach and Recruitment Plan: The plan should be specific and cover each of the categories listed below. The plan may be no more than 20 double-spaced, single-sided, typed pages in no smaller than 12-point font. It may include single-spaced bulleted sections.

• Proposed Strategy—Your proposed strategy and rationale for providing outreach to persons with disabilities and to increase participation of individuals with disabilities in national service programs.

• Description of Activities—A detailed description of your proposed activities to increase the number of individuals with disabilities as participants in national service programs and projected outcomes.

• Work Plan—A detailed work plan and timeline for conducting outreach and recruitment.

• Evaluation Plan—A plan for regularly evaluating and assessing your strategy to increase participation of persons with disabilities as participants in national service programs and the outcomes.

2. Description of Organizational/Consortium Capacity.

• A description of the organizational capacity of the entity proposing the grant including experience your organization has with outreach and recruitment, experience in or ability to administer a federal grant, and key staff position(s) who will be responsible for the project. If more than one organization will be involved in carrying out the activities, describe the capacity of the legal applicant to provide a coordinating role in the collaboration and the capacity of the other partners to fulfill their roles and responsibilities.

• Organizational Chart—If more than one organization will be involved in conducting the outreach activities, provide an organizational chart showing the lines of authority and areas of responsibility of each organization.

3. Budget/Budget Narrative: All applicants must complete Standard Form 424A (Budget Information—Non-Construction Programs) for the length of the project. Copies of this form can be obtained at the Corporation's website: http://www.nationalservice.org. If applying for a two year grant, indicate projected second year budget on page two of the form. The funds that the Corporation provides may not exceed 75% of the cost of carrying out activities under the grant. You may provide for the remaining share through a payment in cash or in-kind, fairly evaluated, including facilities, equipment, or services. You may use State sources, local sources, or Federal sources (if allowed by the granting agency) other than funds made available under the national service laws. Complete a budget narrative using the guidelines in the application instructions.

4. Letters of Commitment: If more than one organization will be involved in carrying out the outreach activities, the application should include letters of commitment from all partners.

I. Selection Criteria

In awarding these grants, we will consider program design, organizational capacity, and budget and cost effectiveness. Applicants must propose clearly-defined and specific activities to increase the number of persons with disabilities in national service. We will give priority consideration to applicants that demonstrate a collaboration with disability organizations with expertise in disability issues and to applicants who are themselves disability organizations that have expertise in a range of disability areas.

After evaluating the overall quality of proposals and their responsiveness to the criteria noted above, we will seek to ensure that applications we select represent a portfolio that is: (1) Geographically diverse, including projects throughout the five geographical clusters as designated by the Corporation; (2) representative of the range of disabilities; and (3) representative of a range of models and approaches to involving individuals with disabilities in national service. The Corporation will make all final decisions concerning awards and may require revisions to the original grant proposal in order to achieve the objectives under this Notice.

J. Notice of Intent To Submit

If you intend to submit an application, please send us a notice of intent to submit by August 31st addressed to Nancy Talbot, Corporation for National Service, 1201 New York Avenue, NW., Washington, DC 20525 or email your intent to ntalbot@cns.gov. The notice should include the name of your organization, address, contact person and phone number and should state that you plan to submit an application for outreach to individuals with a disability for the October 4th deadline.

If you do not send a notice of intent to submit, you may still submit an application. Conversely, if you send a notice of intent to submit, you are not obligated to submit an application. The notice of intent to submit simply helps us to plan more efficiently for our review.

K. Technical Assistance Calls

The Corporation is scheduling technical assistance calls on:

July 31, 2000 4-5 p.m. Eastern Daylight Time

August 9, 2000 3-4 p.m. Eastern Daylight Time

August 15, 2000 3:30-4:30 p.m. Eastern Daylight Time

If you wish to register for the call, please contact Theresa Dean at 202-606-5000 ext. 207. We expect to make selections by November 15, 2000, and award grants by the end of December. Grantees should plan to begin their activities in January or February 2001. Funding for these activities is contingent upon the availability of appropriations. The Corporation is not bound by any of the estimates in this Notice.

(CFDA #94.007)
Dated: July 21, 2000.
Gary Kowalczyk,
Coordinator, National Service Programs, Corporation for National and Community Service.

[FR Doc. 00-18911 Filed 7-25-00; 8:45 am]

BILLING CODE 6050-28-P